CORPORATION FOR NATIONAL AND COMMUNITY SERVICE

New Information Collection; Submission for OMB Review; Comment Request

AGENCY: Corporation for National and Community Service.

ACTION: Notice.

The Corporation for National and Community Service (hereinafter the “Corporation”), has submitted the following public information collection requests (ICRs) to the Office of Management and Budget for review and approval in accordance with the Paperwork Reduction Act of 1995 (Pub. L. 104-13. (44 U.S.C. chapter 35)). Copies of these individual ICRs, with applicable supporting documentation, may be obtained by calling the Corporation for National and Community Service, Office of the National Senior Service Corps, Attn: Mr. Peter L. Boynton, (202) 606-5000, extension 499. Individuals who use a telecommunications device for the deaf (TTY/TDD) may call (202) 565-2799 between the hours of 9 a.m. and 4:30 p.m. Eastern time, Monday through Friday.

Comments should be sent to the Office of Information and Regulatory Affairs, Attn: Mr. Daniel Werfel, OMB Desk Officer for the Corporation for National and Community Service, Office of Management and Budget, Room 10235, Washington, DC 20503, (202) 395-7326, within 30 days of this publication in the Federal Register.

The OMB is particularly interested in comments which:

• Evaluate whether the proposed collection of information is necessary for the proper performance of the Corporation, including whether the information will have practical utility;

• Evaluate the accuracy of the agency's estimate of the burden of the proposed collection of information, including the validity of the methodology and assumptions used;

• Propose ways to enhance the quality, utility and clarity of the information to be collected; and

• Propose ways to minimize the burden of the collection of information to those who are to respond, including through the use of appropriate automated, electronic, mechanical, or other technological collection techniques or other forms of information technology, e.g., permitting electronic submissions of responses.

Type of Review: New information collection.

Agency: Corporation for National and Community Service.

Title: National Senior Service Corps GPRA Project Data Report.

OMB Number: None.

Agency Number: None.

Affected Public: Sponsors of National Senior Service Corps grants.

Total Respondents: Approximately 1,304.

Frequency: Annual.

Average Time Per Response: .75 hour.

Estimated Total Burden Hours: 1,978 hours.

Total Burden Cost (capital/startup): None.

Total Burden Cost (operating/maintenance): $496.00.

Description: The Corporation is seeking approval for a new form for all grantees of the NSSC to report GPRA data annually as of a single date. The data to be reported on this form is currently reported by most grantees semi-annually on CNCS Form 1020, Project Progress Report (OMB Control Number 3045-0033). A small percentage are required to submit the PPR quarterly. Pending OMB approval, the GPRA reporting data will be deleted from the Project Progress Report as of July 31, 2000. The new NSSC GPRA Reporting Form, if approved, will be filed by all grantees by December 1 each year, containing data with a time period of Oct 1 through September 30.

Having all grantees, regardless of their grant budget cycle, report annually as of September 30 will reduce the reporting burden for GPRA data for grantees who currently report this data semi-annually or quarterly. It will also enable the Corporation to submit current, consistent, and reliable aggregrate GPRA reporting data to Congress by the date established by law, February 28th of each year.

Dated: April 24, 2000.
Thomas E. Endres,
Director, National Senior Service Corps, Corporation for National and Community Service.

[FR Doc. 00-10612 Filed 4-27-00; 8:45 am]

BILLING CODE 6050-28-U